OFFICE OF MANAGEMENT AND BUDGET

Notice of Listening Sessions: Broadening Public Participation and Community Engagement in the Regulatory Process

AGENCY: Office of Management and Budget, Executive Office of the President.

ACTION: Notice of listening sessions.

SUMMARY: On July 19, 2023, the Office of Information and Regulatory Affairs (OIRA) in the Office of Management and Budget (OMB) issued a Memorandum, Broadening Public Participation and Community Engagement in the Regulatory Process, providing guidance to agencies on how to promote equitable and meaningful participation by a range of interested and affected parties, including members of underserved communities, during the regulatory process. The Memorandum also established guidance for agencies to implement the Executive Order on Modernizing Regulatory Review's call for proactive engagement to inform the development of regulatory actions and plans, with a focus on early engagement in agency priority-setting. In developing the Memorandum, OIRA drew on extensive engagement with the public, including four listening sessions and two public comment periods. In the Memorandum, OIRA anticipated organizing a follow-up listening session approximately twelve months from its issuance, to hear from members of the public about implementation of this guidance and opportunities for improvement. OIRA will hold three listening sessions to receive public input on the public's experience engaging with agency's rulemaking processes since the Memorandum's release.

DATES: The listening sessions will be held on July 10, 2024, at 3 to 4 p.m., Eastern Time, and July 17, 2024, at 1 to 1:30 p.m., Eastern Time. Members of the public who cannot attend the listening sessions and wish to submit written comments should do so by sending comments to publicparticipation@omb.eop.gov before July 17, 2024.

ADDRESSES:

Listening Sessions: Information to access the virtual listening sessions will be provided upon registration. Members of the public may register by sending an email to publicparticipation@omb.eop.gov, noting the session they would like to attend.

Written Comments: In an effort to improve accessibility, OMB is offering multiple options to provide feedback. Responses can be submitted via the Federal eRulemaking Portal (https://www.regulations.gov/). Alternatively, public comments can be submitted via email at publicparticipation@omb.eop.gov.

FOR FURTHER INFORMATION CONTACT: Please email the Office of Management and Budget at publicparticipation@omb.eop.gov.

SUPPLEMENTARY INFORMATION:

I. Background

Public involvement in the development of regulations can lead to more effective and equitable regulations, greater trust in government and democratic accountability, and increased public understanding of the regulatory process.

Recognizing the importance of public participation, Executive Order 14094 of April 6, 2023, Modernizing Regulatory Review, encourages Federal agencies, to the extent practicable and consistent with applicable law, to inform their regulatory actions through meaningful and equitable opportunities for public input from a range of interested or affected parties, including underserved communities.

To assist agencies in implementing the public participation provisions of Executive Order 14094, OIRA published a Memorandum, Broadening Public Participation and Community Engagement in the Regulatory Process.¹ Among other things, the Memorandum offered a review of actions agencies should take, where practicable and appropriate, to support greater participation and engagement in the regulatory process. In particular, it discussed: (1) “[l]everaging the release of the biannual Unified Agenda of Federal Regulatory Actions . . . to discuss agencies' past, ongoing, and upcoming participation and engagement with the public, including underserved communities”; and (2) “[e]nsuring that agency policies on communication during the rulemaking process promote accessible, equitable, and meaningful participation and engagement, especially early on in setting regulatory priorities and in the early stages of rule development before a proposed regulation is issued for comment.” The Memorandum identified leading practices for participation and engagement that agencies can consider using, such as taking affirmative steps to promote engagement where members of the public may face obstacles to participation; making regulatory material more accessible, understandable, and usable by the public; holding listening sessions, including online or technology-enabled session, while agencies are still defining regulatory priorities; or providing multiple means of submitting comments and feedback.

¹ https://www.whitehouse.gov/wp-content/uploads/2023/07/Broadening-Public-Participation-and-Community-Engagement-in-the-Regulatory-Process.pdf.

Since releasing the Memorandum, OIRA has worked with agencies to make effective use of the Unified Agenda of Federal Regulatory Actions (Regulatory Agenda) to expand public awareness of the opportunities agencies have provided, and potentially will provide, for public participation and community engagement. The Fall 2023 Regulatory Agenda included descriptions of agency efforts to engage with the public.

Notable instances of public participation include the following:

• The Small Business Administration conducted four Tribal consultations and a listening session related to aspects of a proposed rule that would change the Native community benefits-reporting requirements in SBA's 8(a) Business Development program; that feedback contributed to SBA's decision to remove these provisions from the final rule.

• The Environmental Protection Agency held over forty external meetings, including directly engaging with Tribes, small businesses, and other entities, to inform its ongoing work to develop a proposed rule addressing risks posed by the chemical1-bromopropane.

• The Department of Transportation's proposal to ensure air carriers and ticket agents provide prompt ticket refunds (including ancillary fees) to passengers when a flight is cancelled or significantly changed was informed by four public meetings, including a public hearing.

• The Office of Management and Budget's revision to Statistical Policy Directive No. 15: Standards for Maintaining, Collecting, and Presenting Federal Data on Race and Ethnicity, was informed by more than 20,000 comments, 94 listening sessions hosted by the Interagency Technical Working Group on Race and Ethnicity Standards, 3 public virtual townhalls, and a Tribal consultation.

II. Topics and Key Questions

OMB particularly seeks feedback on the following three topic areas: (1) the Regulatory Agenda as a platform for highlighting past and future opportunities for public participation; (2) experience with effective opportunities for public engagement in the regulatory process; and (3) opportunities for strengthening public participation and community engagement in the regulatory process.

1. The Regulatory Agenda as a Platform for Public Participation

• Are there entries in the Regulatory Agenda that you think have been particularly helpful in describing how public participation informed an agency's regulatory process?

• Are there entries in the Regulatory Agenda that you think have been particularly helpful in offering information regarding forthcoming opportunities for public participation and engagement?

• What further improvements would you like to see regarding how public participation is discussed in the Regulatory Agenda?

2. Effective Opportunities for Public Engagement

• Did you find any agency actions that were particularly helpful in facilitating participation in an agency's regulatory process? Please include any specific examples.

○ Did you attend an online or technology-enabled session, and, if so, did you find this an effective way of engaging with the agency?

○ Did the agency provide multiple means of submitting comments and feedback in multiple formats, and were any especially effective?

○ Did the agency offer plain language summaries, infographics, or short videos regarding the relevant issue, that sufficiently prepared you to provide effective input?

• Did you find the agency was asking for your input at the right time, such that feedback could be effectively incorporated?

3. Opportunities for Strengthening Public Participation and Community Engagement

• Are there any actions agencies could take to make it easier to participate in opportunities for public engagement? Please include any specific examples.

○ Could an agency better inform the public of opportunities for public engagement?

○ Could an agency make opportunities for public engagement more accessible?

○ Are there any resources that would better prepare members of the public to provide effective feedback?

• Are there any actions agencies could take to better engage with members of affected and underserved communities?

• Are there any changes to OMB guidance that would help strengthen public participation in agency regulatory processes?

Richard L. Revesz,
Administrator, Office of Information and Regulatory Affairs.

[FR Doc. 2024-13730 Filed 6-26-24; 8:45 am]

BILLING CODE 3110-01-P